DEPARTMENT OF TRANSPORTATION

Federal Aviation Administration

[Docket No. FAA-2019-0159]

Agency Information Collection Activities: Requests for Comments; Clearance of a Renewed Approval of Information Collection: B4UFLY Smartphone App; Correction

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on March 14, 2019. The collection involves the B4UFLY smartphone app that provides situational awareness of flight restrictions—including locations of airports, restricted airspace, special use airspace, and temporary flight restrictions—based on a user's current or planned flight location. In order to maintain NAS safety in proximity to airports, authorization is now required from recreational Unmanned Aircraft System (UAS) pilots to operate in controlled airspace The data collected will assist the FAA with determining the best processes to authorize recreational UAS pilots and inform air traffic control personnel of a UAS pilot's intended flight in order to assess whether the UAS may disrupt or endanger manned air traffic. Issuing a corrected 30-day notice to provide a full 30 days for comment.

DATES: Written comments should be submitted by August 2, 2019.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Bonita K. Reichert by email at: Bonnie.Reichert@faa.gov; phone: 405-875-6301.

SUPPLEMENTARY INFORMATION:

OMB Control Number: 2120-0764.

Title: B4UFLY Smartphone App.

Form Numbers: There are no forms associated with this collection.

Type of Review: Renewal of an information collection.

Background: The Federal Register Notice with a 60-day comment period soliciting comments on the following collection of information was published on March 14, 2019 (84 FR 9411).

Public Law 112-95, Section 336 which requires model aircraft operators to notify the airport operator and air traffic control tower (if one is located at the airport) prior to operating within 5 miles of an airport. The FAA's B4UFLY smartphone app provides situational awareness of flight restrictions— including locations of airports, restricted airspace, special use airspaces, and temporary flight restrictions—based on a user's current or planned flight location. In order to maintain NAS safety in proximity to airports, air traffic control personnel would need certain basic information about a UAS operator's intended flight in order to assess whether the UAS may disrupt or endanger manned air traffic. The data collected will assist the FAA with determining the best processes to authorize recreational UAS pilots and inform air traffic control personnel of a UAS pilot's intended flight in order to assess whether the UAS may disrupt or endanger manned air traffic.

Respondents: Approximately 640,060 users total with an average usage of 100,000 users.

Frequency: Information is collected on occasion.

Estimated Average Burden per Response: Approximately 2 minutes.

Estimated Total Annual Burden: Approximately 100 minutes for light usage per user. Approximately 5 hours per user for heavier usage.

Issued in Oklahoma City, OK, on June 28, 2019.
Bonita K. Reichert,
Project Manager, UAS Program Office Division, Office of Information and Technology, Enterprise Program Management Services, AEM-210.

[FR Doc. 2019-14240 Filed 7-2-19; 8:45 am]

BILLING CODE 4910-13-P